DEPARTMENT OF ENERGY

Federal Energy Regulatory Commission

[Docket No. RP02-361-010]

Gulfstream Natural Gas System, L.L.C.; Notice of Supplemental Filing

July 31, 2003.

Take notice that on July 14, 2003, Gulfstream Natural Gas System, L.L.C., (Gulfstream) tendered for filing as part of its FERC Gas Tariff, Original Volume No. 1, Sub Original Sheet No. 8H, reflecting an effective date of July 1, 2003.

Gulfstream states that this filing is being made as a supplement to its July 8, 2003 filing in this proceeding to implement a Park negotiated rate transaction under Rate Schedule PALS. Gulfstream states that the tariff sheet clarifies that the negotiated rate only applies up to a certain quantity of the shipper's Park account balance for the applicable day.

Gulfstream states that copies of its filing have been mailed to all affected customers and interested state commissions, as well as all parties on the Commission's official service list.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 5, 2003.

Linda Mitry,
Acting Secretary.

[FR Doc. 03-20004 Filed 8-5-03; 8:45 am]

BILLING CODE 6717-01-P